COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before April 29, 2015.

ADDRESSES: Comments regarding the burden estimated or any other aspect of the information collection, including suggestions for reducing the burden, may be submitted directly to OMB within 30 days of the notice's publication by email at OIRAsubmissions@omb.eop.gov. Please identify the comments by OMB Control No. 3038-0076. Please provide the Commission with a copy of all submitted comments at the address listed below. Please refer to OMB Reference No. 3038-0076, found on http://reginfo.gov. Comments may also be mailed to the Office of Information and Regulatory Affairs, Office of Management and Budget, Attention: Desk Officer for the Commodity Futures Trading Commission, 725 17th Street NW., Washington, DC 20503, and to Eileen Chotiner, Senior Program Analyst, Division of Clearing and Risk, Commodity Futures Trading Commission, Three Lafayette Centre, 1155 21st Street NW., Washington, DC 20581. Comments may also be submitted by any of the following methods:

• Agency Web site, via its Comments Online process: http://comments.cftc.gov. Follow the instructions for submitting comments through the Web site.

• Mail: Send to Christopher Kirkpatrick, Secretary of the Commission, Commodity Futures Trading Commission, Three Lafayette Centre, 1155 21st Street NW., Washington, DC 20581.

• Hand Delivery/Courier: Same as Mail, above.

• Federal eRulemaking Portal: http://www.regulations.gov/. Follow the instructions for submitting comments.

Please submit your comments to the Commission using only one of these methods.

All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in section 145.9 of the Commission's regulations.¹

¹ Commission regulations referred to herein are found at 17 CFR 1 et seq. (2014).

The Commission reserves the right, but shall have no obligation, to review, pre-screen, filter, redact, refuse or remove any or all of your submission from www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Eileen Chotiner, Division of Clearing and Risk, Commodity Futures Trading Commission, Three Lafayette Centre, 1155 21st Street NW., Washington, DC 20581; (202) 418-5467; email: echotiner@cftc.gov, and refer to OMB Control No. 3038-0076.

SUPPLEMENTARY INFORMATION: Title: “Risk Management Requirements for Derivatives Clearing Organizations, 3038-0076.” This is a request for extension of a currently approved information collection.

Abstract: Part 39 of the Commission's regulations establishes risk management requirements for derivatives clearing organizations (“DCOs”), which are required to be registered with the Commission. Part 39 also establishes procedures for registration of DCOs. The Commission will use the information in this collection to assess compliance of DCOs and DCO applicants with requirements for DCOs prescribed in the Commodity Exchange Act and Commission regulations.

Burden Statement: The respondent burden for this collection is estimated to average 10 hours per response.

Respondents/Affected Entities: Derivatives clearing organizations and applicants for registration as a derivatives clearing organization.

Estimated Number of Respondents: 17.

Estimated Total Annual Burden on Respondents: 1,903 hours.

Frequency of Collection: On occasion.

Authority: 44 U.S.C. 3501 et seq.

Dated: March 25, 2015.
Christopher J. Kirkpatrick,
Secretary of the Commission.

[FR Doc. 2015-07201 Filed 3-27-15; 8:45 am]

BILLING CODE 6351-01-P